DEPARTMENT OF HOMELAND SECURITY

U.S. Customs and Border Protection

[CBP Dec. 20-19]

Country of Origin Marking of Products from the West Bank and Gaza

AGENCY: U.S. Customs and Border Protection, Department of Homeland Security.

ACTION: General notice.

SUMMARY: This document notifies the public that, for country of origin marking purposes, imported goods produced in the West Bank, specifically in Area C under the Israeli-Palestinian Interim Agreement (the Oslo Accords), signed on September 28, 1995, and the area known as “H2” under the Israeli-Palestinian Protocol Concerning Redeployment in Hebron and Related Documents (the Hebron Protocol), signed January 17, 1997, must be marked to indicate their origin as “Israel,” “Product of Israel,” or “Made in Israel.” Goods produced in the West Bank, specifically in Areas A and B under the Oslo Accords and the area known as “H1” under the 1997 Hebron Protocol, must be marked to indicate their origin as “West Bank,” “Product of West Bank,” or “Made in West Bank.” Goods produced in Gaza must be marked to indicate their origin as “Gaza,” “Product of Gaza,” “Made in Gaza,” “Gaza Strip,” “Product of Gaza Strip,” or “Made in Gaza Strip.” Imported goods from any of these territorial areas must not include “West Bank/Gaza,” “West Bank/Gaza Strip,” “West Bank and Gaza,” or words of similar meaning.

DATES: The position set forth in this document is applicable as of December 23, 2020. A transition period will be granted for importers to implement marking consistent with this notice. Products from the West Bank or Gaza, when entered or withdrawn from warehouse for consumption into the United States after March 23, 2021, must be marked in accordance with the position set forth in this notice, for purposes of 19 U.S.C. 1304.

FOR FURTHER INFORMATION CONTACT: For legal matters, contact Yuliya A. Gulis, Chief, Food, Textiles and Marking Branch, Regulations and Rulings, Office of Trade, (202) 325-0042 or yuliya.a.gulis@cbp.dhs.gov. For policy matters, contact Margaret Gray, Chief, Trade Agreements Branch, Office of Trade, (202) 253-0927 or FTA@cbp.dhs.gov.

SUPPLEMENTARY INFORMATION:

A. Background on Guidance from the Department of State

Section 304 of the Tariff Act of 1930, as amended (19 U.S.C. 1304), provides that, unless excepted, every article of foreign origin (or its container) imported into the United States shall be marked in a conspicuous place as legibly, indelibly, and permanently as the nature of the article (or its container) will permit, in such a manner as to indicate to the ultimate purchaser in the United States the English name of the country of origin of the article. Failure to mark an article in accordance with the requirements of 19 U.S.C. 1304 shall result in the levy of a duty of ten percent ad valorem. Part 134 of title 19 of the Code of Federal Regulations (19 CFR part 134), implements the country of origin marking requirements and exceptions of 19 U.S.C. 1304.

In Treasury Decision (T.D.) 95-25, published in the Federal Register on April 6, 1995 (60 FR 17607), the U.S. Customs Service (U.S. Customs and Border Protection's predecessor agency) discussed the proper country of origin marking for imported goods produced in the West Bank or Gaza Strip. Prior to the issuance of T.D. 95-25, the U.S. Customs Service had taken the position that, in order for the country of origin marking of a good which was produced in the West Bank or Gaza Strip to be considered acceptable, the word “Israel” must appear in the marking designation. However, by letter dated October 24, 1994, the Department of State advised the Department of the Treasury that, in view of certain developments, principally the Israeli-Palestine Liberation Organization (PLO) Declaration of Principles on Interim Self-Government Arrangements (the DOP), signed on September 13, 1993, the primary purpose of 19 U.S.C. 1304 would be best served if goods produced in the West Bank or Gaza Strip were permitted to be marked “West Bank” or “Gaza Strip.” Accordingly, the U.S. Customs Service notified the public in T.D. 95-25 that, unless excepted from marking, goods produced in the West Bank or Gaza Strip shall be marked as “West Bank,” “Gaza,” or “Gaza Strip” in accordance with the requirements of 19 U.S.C. 1304 and 19 CFR part 134, and shall not contain the words “Israel,” “Made in Israel,” “Occupied Territories-Israel,” or words of similar meaning.

Subsequently, by letter dated January 13, 1997, the Department of State advised the Department of the Treasury that the Palestinian Authority asked that the United States accept the country of origin marking “West Bank/Gaza” so as to reaffirm the territorial unity of the two areas. The Department of State further advised that it considers the West Bank and Gaza Strip to be one area for political, economic, legal and other purposes. Accordingly, the Department of State requested that the U.S. Customs Service accept the country of origin markings “West Bank/Gaza” and “West Bank and Gaza” for products from those areas, and that the U.S. Customs Service continue to accept the markings “West Bank,” “Gaza,” and “Gaza Strip.” Based upon this advice, the U.S. Customs Service notified the public in T.D. 97-16, published in the Federal Register on March 14, 1997 (62 FR 12269), that acceptable country of origin markings for imported goods produced in the West Bank or Gaza Strip included the following: “West Bank/Gaza,” “West Bank/Gaza Strip,” “West Bank and Gaza,” “West Bank and Gaza Strip,” “West Bank,” “Gaza,” and “Gaza Strip.”

By letter dated December 1, 2020, the Department of State has now advised U.S. Customs and Border Protection (CBP) that there has been no further transfer of relevant authorities from Israel to the Palestinian Authority since issuance of the earlier guidance and Israel continues to exercise relevant authorities in areas of the West Bank. The Department of State further advised that it recognizes that Israel has disengaged from Gaza and that Gaza and the West Bank are politically and administratively separate and should be treated accordingly. In light of these developments, and consistent with the purposes of 19 U.S.C. 1304 of providing important information to U.S. purchasers, the Department of State recommends that the country of origin marking requirements for goods produced in the West Bank or Gaza be updated as set forth below in Section C of this notice.

B. Reliance upon Guidance From the Department of State

In the past, CBP (formerly the U.S. Customs Service) has relied upon guidance received from the Department of State in making determinations regarding the “country of origin” of a good for marking purposes. As described in detail in Section A, the U.S. Customs Service relied on advice from the Department of State in issuing Treasury Decisions 95-25 and 97-16 pertaining to the country of origin marking of imported goods produced in the West Bank or Gaza. Accordingly, and consistent with prior decisions, CBP is relying upon advice from the Department of State for purposes of defining the term “country” within the meaning of 19 CFR 134.1(a).

C. New Guidance from the Department of State and Transition Period

Pursuant to the recent guidance from the Department of State, this document notifies the public that, for purposes of 19 U.S.C. 1304, the acceptable country of origin markings for imported goods produced in the territorial areas known as the West Bank or Gaza Strip consist of the following:

• Goods produced in the territorial areas of the West Bank where Israel continues to exercise relevant authorities—specifically Area C under the Oslo Accords and the area known as “H2” which is under Israeli administrative control consistent with the 1997 Hebron protocol—must be marked as “Israel,” “Product of Israel,” or “Made in Israel.”

• Goods produced in Areas A and B under the Oslo Accords, which are under the civilian oversight of the Palestinian Authority for these purposes, along with the area known as “H1” from the 1997 Hebron Protocol, must be marked as “West Bank,” “Product of West Bank,” or “Made in West Bank.”

• Goods produced in Gaza must be marked as “Gaza,” “Product of Gaza,” “Made in Gaza,” “Gaza Strip,” “Product of Gaza Strip,” or “Made in Gaza Strip.”

• Goods from any of these territorial areas must not be marked in conjunctive form, such as “West Bank/Gaza,” “West Bank/Gaza Strip,” “West Bank and Gaza,” or words of similar meaning.

Given commercial realities, affected parties may need a transition period to implement marking consistent with the position announced in this notice. Therefore, unless excepted from marking, goods produced in the territorial areas known as the West Bank or Gaza Strip, which are entered or withdrawn from warehouse for consumption into the United States after March 23, 2021, must be marked in accordance with the position set forth above, for purposes of 19 U.S.C. 1304.

Dated: December 18, 2020.
Brenda B. Smith,
Executive Assistant Commissioner, Office of Trade.

[FR Doc. 2020-28547 Filed 12-22-20; 8:45 am]

BILLING CODE 9111-14-P